DEPARTMENT OF HEALTH AND HUMAN SERVICES

National Institutes of Health

Center for Scientific Review; Amended Notice of Meeting

Notice is hereby given of a change in the meeting of the Center for Scientific Review Special Emphasis Panel, March 10, 2021, 9:30 a.m. to March 10, 2021, 06:00 p.m., National Institutes of Health, Rockledge II, 6701 Rockledge Drive, Bethesda, MD 20892 which was published in the Federal Register on February 11, 2021, V86 Pg 9080.

The meeting start time changed from 9:30 a.m. to 10:30 a.m. The meeting location remains the same. The meeting is closed to the public.

Dated: March 4, 2021.
David W. Freeman,
Program Analyst, Office of Federal Advisory Committee Policy.

[FR Doc. 2021-04886 Filed 3-9-21; 8:45 am]

BILLING CODE 4140-01-P